GOVERNMENT ACCOUNTABILITY OFFICE

Comptroller General's Advisory Council on Standards for Internal Control in the Federal Government; Meeting

AGENCY: Government Accountability Office.

ACTION: Notice of meeting.

SUMMARY: The U.S. Government Accountability Office (GAO) is revising Standards for Internal Control in the Federal Government, known as the Green Book, under its authority provided in the Federal Managers' Financial Integrity Act. As part of the revision process, GAO is holding a meeting of the Comptroller General's Advisory Council on Standards for Internal Control in the Federal Government (Council). The Comptroller General established the Council to provide input and recommendations on revisions to the Green Book. The purpose of the meeting is to discuss proposed revisions.

DATES: The meeting will be held on Wednesday, June 14, 2023, from 9:00 a.m. to 3:30 p.m.

ADDRESSES: The meeting will be held at the U.S. Government Accountability Office, 441 G Street NW, Washington, DC 20548, in Conference Room 2N30.

FOR FURTHER INFORMATION CONTACT: For information on the meeting or the Green Book, please contact Carrie Morrison, Assistant Director, Financial Management and Assurance, MorrisonC@gao.gov or (202) 512-4689. To request a reasonable accommodation (RA) for this meeting, email GAO's RA office at ReasonableAccommodations@gao.gov. Please request all accommodations at least 5 business days prior to the event (by June 7, 2023).

SUPPLEMENTARY INFORMATION: In the afternoon, members of the public will have an opportunity to address the Council with brief (5-minute) presentations on matters directly related to the proposed revisions. Any interested person who plans to attend the meeting as an observer must contact Carrie Morrison, Assistant Director, at (202) 512-4689, before June 7, 2023. To obtain access to the GAO building for the meeting, a form of picture identification must be presented to the GAO Security Desk. Please enter the building at the G Street entrance. The meeting agenda will be available upon request 1 week before the meeting.

Authority: 31 U.S.C. 3512(c), (d).

James Dalkin,
Director, Financial Management and Assurance, U.S. Government Accountability Office.

[FR Doc. 2023-10659 Filed 5-17-23; 8:45 am]

BILLING CODE 1610-02-P